DEPARTMENT OF COMMERCE

National Oceanic and Atmospheric Administration

[I.D.121802B]

Pacific Fishery Management Council; Public Meetings and Hearings

AGENCY: National Marine Fisheries Service (NMFS), National Oceanic and Atmospheric Administration (NOAA), Commerce.

ACTION: Notice of availability of reports; public meetings and hearings.

SUMMARY: The Pacific Fishery Management Council (Council) has begun its annual preseason management process for the 2003 ocean salmon fisheries. This document announces the availability of Council documents as well as the dates and locations of Council meetings and public hearings comprising the Council's complete schedule of events for determining the annual proposed and final modifications to ocean salmon fishery management measures. The agendas for the March and April Council meetings will be published in subsequent Federal Register documents prior to the actual meetings.

DATES: Written comments on the salmon management options must be received by April 2, 2003, at 4:30 p.m. Pacific Time.

ADDRESSES: Documents will be available from and written comments should be sent to Dr. Hans Radtke, Chairman, Pacific Fishery Management Council, 7700 NE Ambassador Place, Suite 200, Portland, Oregon, 97220-1384, 503-820-2280 (voice) or 503-820-2299 (fax). For specific meeting and hearing locations, see SUPPLEMENTARY INFORMATION.

FOR FURTHER INFORMATION CONTACT: Mr. Chuck Tracy telephone 503-820-2280.

SUPPLEMENTARY INFORMATION:

Schedule for Document Completion and Availability

March 4, 2003: “Review of 2002 Ocean Salmon Fisheries” and “Preseason Report I-Stock Abundance Analysis for 2003 Ocean Salmon Fisheries” will be available to the public from the Council office and posted on the Council website at http://www.pcouncil.org.

March 25, 2003: “Preseason Report II-Analysis of Proposed Regulatory Options for 2003 Ocean Salmon Fisheries” and public hearing schedule will be mailed to the public and posted on the Council website at http://www.pcouncil.org. The report will include a description of the adopted salmon management options and a summary of their biological and economic impacts.

April 8, 2003: “Draft Environmental Assessment for the Proposed 2003 Management Measures for the Ocean Salmon Fishery Managed under the Pacific Coast Salmon Plan” will be available at the Council meeting at the Red Lion Hotel at the Quay, Vancouver, WA and posted on the Council website at http://www.pcouncil.org.

April 25, 2003: Council adopted ocean salmon fishing management measures will be posted on the Council website at http://www.pcouncil.org.

May 1, 2003: Federal regulations will be implemented and “Preseason Report III-Analysis of Council Adopted Ocean Salmon Management Measures for 2003 Ocean Salmon Fisheries” will be available from the Council office and posted on the Council web site at http://www.pcouncil.org.

Meetings and Hearings

January 21-24, 2003: The Salmon Technical Team (STT) will meet at the Council office in a public work session to draft “Review of 2002 Ocean Salmon Fisheries” and to consider any other estimation or methodology issues pertinent to the 2003 ocean salmon fisheries.

February 18-21, 2003: The STT will meet at the Council office in a public work session to draft “Preseason Report I-Stock Abundance Analysis for 2003 Ocean Salmon Fisheries” and to consider any other estimation or methodology issues pertinent to the 2003 ocean salmon fisheries.

March 10-14, 2003: The Council and advisory entities will meet at the Red Lion Hotel Sacramento, Sacramento, CA to adopt the 2003 salmon management options for public review.

March 31 - April 1, 2003: Public hearings will be held to receive comments on the proposed ocean salmon fishery management options adopted by the Council. All public hearings begin at 7 p.m. on the dates and at the locations specified here.

March 31, 2003: Chateau Westport, Beach Room, 710 W Hancock, Westport, WA, 98595, telephone 360-268-9101.

March 31, 2003: Red Lion Hotel, South Umpqua Room, 1313 N Bayshore Drive, Coos Bay, OR, 97420, telephone 541-269-4099.

April 1, 2003: Red Lion Hotel Eureka, Evergreen Room, 1929 Fourth Street, Eureka, CA, 95501, telephone 707-441-4712.

April 7-11, 2003: Council and advisory entities meet at the Red Lion Hotel at the Quay, 100 Columbia St. Vancouver, WA, 98660, telephone 694-8341, to adopt 2003 management measures for implementation by NMFS.

April 8, 2003: Testimony on the management options is taken during the Council meeting at the Red Lion Hotel at the Quay, Vancouver, WA.

Although nonemergency issues not contained in the STT meeting agendas may come before the STT for discussion, those issues may not be the subject of formal STT action during these meetings. STT action will be restricted to those issues specifically listed in this document and to any issues arising after publication of this document requiring emergency action under section 305(c) of the Magnuson-Stevens Fishery Conservation and Management Act, provided the public has been notified of the STT's intent to take final action to address the emergency.

Special Accommodations

The meetings are physically accessible to people with disabilities. Requests for sign language interpretation or other auxiliary aids should be directed to Ms. Carolyn Porter at 503-820-2280 (voice), or 503-820-2299 (fax) at least 5 days prior to the meeting date.

Authority: 16 U.S.C. 1801 et. seq.

Dated: December 30, 2002.
Bruce C. Morehead,
Acting Director, Office of Sustainable Fisheries, National Marine Fisheries Service.

[FR Doc. 03-178 Filed 1-3-03; 8:45 am]

BILLING CODE 3510-22-S